ENVIRONMENTAL PROTECTION AGENCY

[FRL-9904-29-OEI]

Cross-Media Electronic Reporting: Authorized Program Revision Approval, State of New York

AGENCY: Environmental Protection Agency (EPA).

ACTION: Notice.

SUMMARY: This notice announces EPA's approval of the State of New York's request to modify its State Operating Permit Programs EPA-authorized program to allow electronic reporting.

DATES: EPA's approval is effective on December 20, 2013 for the State of New York's State Operating Permit Programs, if no timely request for a public hearing is received and accepted by the Agency.

FOR FURTHER INFORMATION CONTACT: Karen Seeh, U.S. Environmental Protection Agency, Office of Environmental Information, Mail Stop 2823T, 1200 Pennsylvania Avenue NW., Washington, DC 20460, (202) 566-1175, seeh.karen@epa.gov.

SUPPLEMENTARY INFORMATION: On October 13, 2005, the final Cross-Media Electronic Reporting Rule (CROMERR) was published in the Federal Register (70 FR 59848) and codified as part 3 of title 40 of the CFR. CROMERR establishes electronic reporting as an acceptable regulatory alternative to paper reporting and establishes requirements to assure that electronic documents are as legally dependable as their paper counterparts. Subpart D of CROMERR requires that state, tribal or local government agencies that receive, or wish to begin receiving, electronic reports under their EPA-authorized programs must apply to EPA for a revision or modification of those programs and obtain EPA approval. Subpart D provides standards for such approvals based on consideration of the electronic document receiving systems that the state, tribe, or local government will use to implement the electronic reporting. Additionally, § 3.1000(b) through (e) of 40 CFR part 3, subpart D provides special procedures for program revisions and modifications to allow electronic reporting, to be used at the option of the state, tribe or local government in place of procedures available under existing program-specific authorization regulations. An application submitted under the subpart D procedures must show that the state, tribe or local government has sufficient legal authority to implement the electronic reporting components of the programs covered by the application and will use electronic document receiving systems that meet the applicable subpart D requirements.

On August 8, 2010 the New York State Department of Environmental Conservation (NYSDEC) submitted an amended application titled “Air Compliance and Emission Electronic Reporting System” for modification of its EPA-authorized Part 70 program under title 40 CFR. EPA reviewed NYSDEC's request to modify Part 70—“State Operating Permit Programs” and, based on this review, EPA determined that the application met the standards for approval of authorized program modification set out in 40 CFR part 3, subpart D. In accordance with 40 CFR 3.1000(d), this notice of EPA's decision to approve New York State's request to modify its Part 70—State Operating Permit Programs to allow electronic reporting under 40 CFR part 70 is being published in the Federal Register.

NYSDEC was notified of EPA's determination to approve its application with respect to the authorized program listed above.

Dated: December 11, 2013.
Andrew Battin,
Director, Office of Information Collection.

[FR Doc. 2013-30418 Filed 12-19-13; 8:45 am]

BILLING CODE 6560-50-P